DEPARTMENT OF COMMERCE

Foreign-Trade Zones Board

[Docket 26-2001]

Foreign-Trade Zone 39—Dallas/Fort Worth, Texas; Application for Expansion

An application has been submitted to the Foreign-Trade Zones (FTZ) Board (the Board), by the Dallas/Fort Worth International Airport Board, grantee of Foreign-Trade Zone 39, requesting authority to expand its zone in Dallas/Fort Worth, Texas, within the Dallas/Fort Worth Customs port of entry. The application was submitted pursuant to the provisions of the Foreign-Trade Zones Act, as amended (19 U.S.C. 81a-81u), and the regulations of the Board (15 CFR part 400). It was formally filed on June 20, 2001.

FTZ 39 was approved on August 17, 1978 (Board Order 133, 43 FR 37478, 8/23/78) and expanded on December 11, 1992 (Board Order 613, 57 FR 61046, 12/23/92); December 27, 1994 (Board Order 723, 60 FR 2377, 1/9/95); December 27, 1994 (Board Order 724, 60 FR 2376, 1/9/95); and, March 12, 1999 (Board Order 1028, 64 FR 14212, 3/24/99). The zone project currently consists of the following sites: Site 1 (2,400 acres)—within the 18,000-acre Dallas/Fort Worth International Airport complex; Site 2 (754 acres)—Southport Centre Industrial Park, South Dallas; Site 3 (552 acres)—within the 1,100-acre Grayson County Airport complex, Grayson County; and, Site 4 (644 acres, 3 parcels)—Railhead Fort Worth site, intersection of Loop 820 (the Jim Wright Freeway) and Blue Mound Road (FM 156), Fort Worth.

The applicant is now requesting authority to expand the general-purpose zone to include two new sites (832 acres) in the Dallas/Forth Worth area (Proposed Sites 5 and 6): Proposed Site 5 (280 acres)—within the 745-acre Meacham Airport complex, intersection of Loop 820 and Interstate 35, Fort Worth; and, Proposed Site 6 (552 acres)—within the 1,060-acre Redbird Airport complex, intersection of Loop 12 and Interstate 35, Dallas. Proposed Site 5 is owned by the City of Fort Worth and Proposed Site 6 is owned by the City of Dallas. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is August 27, 2001. Rebuttal comments in response to material submitted during the foregoing period may be submitted during the subsequent 15-day period (to September 10, 2001).

A copy of the application and accompanying exhibits will be available for public inspection at each of the following locations:

U.S. Department of Commerce, International Trade Administration, Export Assistance Center, 711 Houston Street, Fort Worth, TX 76102

Office of the Executive Secretary, Foreign-Trade Zones Board, Room 4008,U.S. Department of Commerce, 14th & Pennsylvania Avenue, NW, Washington, DC 20230.

Dated: June 20, 2001.
Dennis Puccinelli,
Executive Secretary.

[FR Doc. 01-16168 Filed 6-26-01; 8:45 am]

BILLING CODE 3510-DS-P